DEPARTMENT OF HEALTH AND HUMAN SERVICES

Grant Award to the University of Northern Colorado

AGENCY: Department of Health and Human Services, Office of the Secretary, Office of Public Health and Science, Office of Population Affairs.

ACTION: Notice.

Authority: Section 1004 of the Public Health Service (PHS) Act.

SUMMARY: This notice is to inform the public that the Office of Population Affairs (OPA) is awarding, in fiscal year 2008, $50,000 to the University of Northern Colorado, under Title X of the PHS Act (42 U.S.C. 300, et seq.). This institution proposes to conduct research activities, authorized under section 1004 of the Act, which are relevant to the purposes of the statue. These purposes include research in the behavioral and program implementation fields related to family planning and population. The Title X research program is described in the Catalog of Federal Domestic Assistance Number 93.974.

DATES: Effective date for the award is July 7, 2008.

FOR FURTHER INFORMATION CONTACT: If you have any questions please contact Patricia Thompson, PhD, Director of the Office of Research and Evaluation, Office of Population Affairs at Patricia.Thompson@hhs.gov or 240-453-2835.

SUPPLEMENTARY INFORMATION: An unsolicited research proposal developed by Lisa Rue, PhD, of the University of Northern Colorado was submitted to OPA in March 2008. Because the proposed plan anticipated surveying a sample of clients from Title X clinics, the application was considered for responsiveness to any current family planning research opportunities available at OPA. Because of the compelling nature of the research proposed, the OPA, in accordance with DHHS Grants Policy Directive 2.04, convened an ad hoc independent review panel to assess its technical merit. The proposal was reviewed according to the following criteria: Significance; scientific merit; feasibility and likelihood of producing meaningful results; competency of staff; and adequacy of facilities and resources. The reviewers provided a global score that summarized their overall opinion of the proposal. Based on the findings and recommendations of the review panel, as well as the significance of the application's potential contribution to OPA's conceptual thinking, a grant award to the University of Northern Colorado is planned. The funded project will carry out measurement refinement and qualitative research to further develop a theoretical framework for distinguishing secondary and tertiary prevention of undesirable consequences of sexual activity. The focus will be on delineating the parameters of a viable secondary prevention population interested in reestablishing sexual boundaries after becoming sexually active as opposed to a tertiary prevention population treated only with contraceptive utilization interventions. The role of developmental stage will be given particular attention. A one-year project in the amount of $50,000 is the anticipated award.

Dated: June 30, 2008.
Joxel Garcia,
Assistant Secretary for Health.

[FR Doc. E8-15297 Filed 7-3-08; 8:45 am]

BILLING CODE 4150-34-P